DEPARTMENT OF VETERANS AFFAIRS

Announcement of Public Listening Sessions To Inform VA's Standards of Practice

AGENCY: Department of Veterans Affairs.

ACTION: Notice of public listening sessions.

SUMMARY: The Department of Veterans Affairs (VA) is announcing a series of five virtual listening sessions for stakeholders to provide input on known state variances for health care occupations. National standards of practice are a standardized set of services that all health care professionals in a given occupation can perform in VA facilities with the proper education, training and skill. To learn more about VA's national standards of practice visit https://www.va.gov/standardsofpractice/.

DATES: VA will hold the listening sessions from August through September 2023. Each session will start at 2:00 p.m., Eastern Daylight Time (EDT) and adjourn at 4:30 p.m. EDT and focus on a preset list of occupations grouped by service type. Occupations not listed below have already had proposed VA national standards of practice shared for feedback on the Federal Register. Veterans Health Administration (VHA) subject matter experts will be present during each listening session and may ask clarifying questions but will not share proposals for specific occupation's standards of practice nor address the merits of any comments provided. Individuals can sign up for each session separately using the links below:

• Session 1: August 24, 2023—Audiologist, Chiropractor, Occupational Therapist, Occupational Therapy Assistant, Physical Therapist, Physical Therapist Assistant, Speech Language Pathologist. Registration link: https://veteransaffairs.webex.com/weblink/register/rb6f2e33ef859c128990b27f448e5a535.

• Session 2: August 31, 2023—Acupuncturist, Genetic Counselor, Massage Therapist, Optometrist, Perfusionist, Podiatrist, Respiratory Therapist, Therapeutic Radiologic Technologist. Registration link: https://veteransaffairs.webex.com/weblink/register/rcc375270e5194da10e13e33c828e80d6.

• Session 3: September 7, 2023—Clinical Pharmacist Practitioner, Dental Assistant, Dental Hygienist, Dentist, Diagnostic Radiologic Technologist, Medical Technologist, Nuclear Medicine Technologist, Pharmacist, Pharmacy Technician, Radiologist Assistant, Social Worker. Registration link: https://veteransaffairs.webex.com/weblink/register/r8dfdce045aaddcf539d03ff7abea89e6.

• Session 4: September 14, 2023—Emergency Medical Technician/Paramedic, Physician, Physician Assistant. Registration link: https://veteransaffairs.webex.com/weblink/register/r3229db69aeba55eeca6bffb24c73ca9f.

• Session 5: September 21, 2023—Addiction Therapist, Certified Registered Nurse Anesthetist, Licensed Practical/Vocational Nurse, Licensed Professional Mental Health Counselor, Marriage and Family Therapist, Peer Specialist, Psychologist, Registered Nurse, Rehabilitation Counselor. Registration link: https://veteransaffairs.webex.com/weblink/register/r192362734f6545e574fdb3b428d2fdcf.

Note: Sessions will be hosted as five individual webinars with closed captioning available. All sessions will be recorded and transcribed.

ADDRESSES: All sessions will be held virtually using Webex. Individuals interested in attending listening sessions, whether to verbally present a comment or listen in, must register for each session in advance. (See additional registration information below).

FOR FURTHER INFORMATION CONTACT: Ethan Kalett, Office of Regulations, Appeals and Policy (10BRAP), Veterans Health Administration, Department of Veterans Affairs, 810 Vermont Avenue NW, Washington, DC 20420, at 202-461-0500. This is not a toll-free number.

SUPPLEMENTARY INFORMATION: On November 12, 2020, VA published an interim final rule confirming that VA health care professionals may practice their health care profession consistent with the scope and requirements of their VA employment, notwithstanding any State license, registration, certification or other State requirements that unduly interfere with their practice. 38 CFR 17.419; 85 FR 71838. Specifically, this rulemaking confirmed VA's current practice of allowing VA health care professionals to deliver health care services in a state other than the health care professional's State of licensure, registration, certification or other State requirement, thereby enhancing beneficiaries' access to critical VA health care services. The rulemaking also confirmed VA's authority to establish national standards of practice for its health care professionals which would standardize a health care professional's practice in all VA medical facilities.

The purpose of these listening sessions is to offer individuals an opportunity to share their research, input and comments on variance between State licenses and scopes of practices for health care occupations, and their recommendations on what should be included in VA's national standard of practice. Listening sessions exclude occupations where VA has already requested a formal feedback period for their proposed VA national standard of practice on the Federal Register. https://www.va.gov/STANDARDSOFPRACTICE/federalregister.asp.

Registration: Individuals interested in attending must register with Webex for each listening session. Any individual who wishes to verbally participate should indicate their intention upon registration to ensure time is allotted accordingly, however, it is not required to complete registration. Individuals that indicate interest in presenting a comment will receive a confirmation message 2 business days prior to each respective session. If an individual wishes to display materials during their presentation, they may be submitted to VA the Monday prior to the session.

Efforts will be made to accommodate all individuals who wish to offer a verbal comment. However, VA will give priority to those who registered in advance of each session. The length of time allotted for individuals to provide verbal comments during the session will be subject to the number of registrants to ensure ample time is allotted. To accommodate a large number of attendees, video will be disabled during the listening session and mics will be muted until a presenter's allotted time. In the event there is not enough time during the session, VA will request written submissions.

Note: VA will not share proposals or address feedback received during listening sessions. Suggestions made through these listening sessions will be used to improve and inform the content included in VA's proposed national standards of practice. All VA proposals for each VA national standard of practice will occur through the Federal Register, as noted above, to ensure appropriate public notification and full opportunity for participation. No VA national standard of practice will be issued in VA policy before VA has provided a proposal through the Federal Register.

Special Accommodations: Request for any accommodation should be received by VA no later than 2 weeks before the scheduled listening session at the address indicated in the FOR FURTHER INFORMATION CONTACT section of this notice.

Signing Authority

Denis McDonough, Secretary of Veterans Affairs, approved and signed this document on August 7, 2023, and authorized the undersigned to sign and submit the document to the Office of the Federal Register for publication electronically as an official document of the Department of Veterans Affairs.

Luvenia Potts,
Regulation Development Coordinator, Office of Regulation Policy & Management, Office of General Counsel, Department of Veterans Affairs.

[FR Doc. 2023-17309 Filed 8-11-23; 8:45 am]

BILLING CODE 8320-01-P